Proclamation 7721 of October 10, 2003

General Pulaski Memorial Day, 2003

By the President of the United States of America

A Proclamation

Brigadier General Casimir Pulaski sacrificed his life on October 11, 1779, for America's independence and the universal cause of freedom. His bravery in supporting the American Revolutionary War is an inspiration to individuals around the world who pursue peace and freedom for all.

Growing up near Warsaw, Casimir Pulaski knew firsthand the horror of tyranny and oppression. In 1768, he joined his father and fellow compatriots in rising against injustice and fighting for Polish independence. As a commander in the rebellion, the young Pole demonstrated a devotion to freedom and great courage. When the rebellion was quelled, Pulaski was exiled to France, where he continued to pursue freedom with the same spirit and determination that he had shown in Poland.

While in Paris, he met with the American envoy to France, Benjamin Franklin, who discussed with him America's struggle for independence. Pulaski then volunteered his services to General George Washington. In his first letter to General Washington after arriving in America in the summer of 1777, General Pulaski pledged that he “came here, where freedom is being defended, to serve it, and to live and die for it.” Impressed with General Pulaski's abilities and battle experience, General Washington commissioned him as a Brigadier General of the American cavalry. In May 1779, General Pulaski's new cavalry division successfully defended the city of Charleston, South Carolina. Several months later, in the siege of Savannah, General Pulaski was mortally wounded while trying to raise morale and rally his troops who were under heavy enemy fire.

General Pulaski's bravery and sacrifice helped lead America to victory, and today, the Polish motto—“for your freedom and ours”—echoes the great spirit of this Polish and American hero. This day, we commemorate General Pulaski's service to our Nation and draw strength from his example. We also honor the sacrifices of the many men and women of Poland and other allied nations who persevere with us in the fight for freedom.

NOW, THEREFORE, I, GEORGE W. BUSH, President of the United States of America, by virtue of the authority vested in me by the Constitution and laws of the United States, do hereby proclaim October 11, 2003, as General Pulaski Memorial Day. I encourage all Americans to commemorate this occasion with appropriate programs and activities paying tribute to Casimir Pulaski and honoring all those who defend the freedom of our Nation.

IN WITNESS WHEREOF, I have hereunto set my hand this tenth day of October, in the year of our Lord two thousand three, and of the Independence of the United States of America the two hundred and twenty-eighth.

B

[FR Doc. 03-26331

Filed 10-15-03; 8:45 am]

Billing code 3195-01-P